DEPARTMENT OF COMMERCE

International Trade Administration

[A-570-038]

Certain Amorphous Silica Fabric From the People's Republic of China: Final Results of the Expedited First Sunset Review of the Antidumping Duty Order

AGENCY: Enforcement and Compliance, International Trade Administration, Department of Commerce.

SUMMARY: As a result of this expedited sunset review, the U.S. Department of Commerce (Commerce) finds that revocation of the antidumping duty (AD) order on certain amorphous silica fabric from the People's Republic of China (China) would be likely to lead to the continuation or recurrence of dumping at the levels indicated in the “Final Results of Review” section of this notice.

DATES: Applicable June 8, 2022.

FOR FURTHER INFORMATION CONTACT: Erin Kearney, AD/CVD Operations, Office VI, Enforcement and Compliance, International Trade Administration, U.S. Department of Commerce, 1401 Constitution Avenue NW, Washington, DC 20230; telephone: (202) 482-0167.

SUPPLEMENTARY INFORMATION:

Background

On March 17, 2017, Commerce published the AD order on certain amorphous silica fabric from China.¹ On February 1, 2022 Commerce published the notice of initiation of the first sunset review of the Order, pursuant to section 751(c) of the Tariff Act of 1930, as amended (the Act).² On February 16, 2022, Commerce received a notice of intent to participate within the 15-day deadline specified in 19 CFR 351.218(d)(1)(i) from Auburn Manufacturing, Inc. (AMI).³ AMI claimed interested party status under section 771(9)(C) of the Act as a domestic producer of certain amorphous silica fabric.⁴

¹ See Certain Amorphous Silica Fabric from the People's Republic of China: Antidumping Duty Order, 82 FR 14314 (March 17, 2017) (Order).

² See Initiation of Five-Year (Sunset) Reviews, 87 FR 5467 (February 1, 2022).

³ See AMI's Letter, “Amorphous Silica Fabric from the People's Republic of China: Five Year (“Sunset”) Review of Antidumping Duty Order—Notice of Intent to Participate,” dated February 16, 2022.

⁴ Id. at 2.

On March 3, 2022, Commerce received an adequate substantive response to the notice of initiation from AMI within the 30-day deadline specified in 19 CFR 351.218(d)(3).⁵ On March 3, 2022, Commerce also received a letter in response to the notice of initiation from SGL Composites Inc., a manufacturer of certain amorphous silica fabric.⁶ We received no substantive response from any respondent interested party with respect to the Order covered by this sunset review.

⁵ See AMI's Letter, “Amorphous Silica Fabric from the People's Republic of China: Five Year (“Sunset”) Review of Antidumping Duty Order—Auburn Manufacturing Inc.'s Substantive Response to Notice of Initiation,” dated March 3, 2022.

⁶ See SGL Composites Inc.'s Letter, “Amorphous Silica Fabric from the People's Republic of China: Five Year (“Sunset”) Review: SGL Composites Inc.'s Substantive Response to Notice of Initiation,” dated March 3, 2022. Although SGL Composites Inc.'s submission is entitled “Substantive Response,” because the company did not file a timely notice of intent to participate pursuant to 19 CFR 351.218(d), we have disregarded this submission for purposes of our analysis.

On March 21, 2022, Commerce notified the U.S. International Trade Commission that it did not receive an adequate substantive response from respondent interested parties.⁷ As a result, pursuant to section 751(c)(3)(B) of the Act and 19 CFR 351.218(e)(1)(ii)(C)(2), Commerce conducted an expedited (120-day) sunset review of the Order.

⁷ See Commerce's Letter, “Sunset Reviews Initiated on February 1, 2022,” dated March 21, 2022.

Scope of the Order

The merchandise subject to the Order consists of certain woven (whether from yarns or rovings) industrial grade amorphous silica fabric, which contains a minimum of 90 percent silica (SiO2) by nominal weight, and a nominal width in excess of 8 inches. For a complete description of the products covered, see the Issues and Decision Memorandum.⁸

⁸ See Memorandum, “Issues and Decision Memorandum for the Final Results of the Expedited First Sunset Review of the Antidumping Duty Order on Amorphous Silica Fabric from the People's Republic of China,” dated concurrently with, and hereby adopted by, this notice (Issues and Decision Memorandum).

Analysis of Comments Received

All issues raised in this sunset review are addressed in the Issues and Decision Memorandum. The Issues and Decision Memorandum is a public document and is on file electronically via Enforcement and Compliance's Antidumping and Countervailing Duty Centralized Electronic Service System (ACCESS). ACCESS is available to registered users at https://access.trade.gov. A list of topics discussed in the Issues and Decision Memorandum is included as the appendix to this notice. In addition, a complete version of the Issues and Decision Memorandum can be accessed directly at https://access.trade.gov/public/FRNoticesListLayout.aspx.

Final Results of Review

Pursuant to sections 751(c)(1), 752(c)(1) and (3) of the Act, Commerce determines that revocation of the Order would be likely to lead to the continuation or recurrence of dumping at weighted-average dumping margins up to 162.47 percent.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing these final results and notice in accordance with sections 751(c), 752(c), and 777(i)(1) of the Act, and 19 CFR 351.218(e)(1)(ii)(C)(2) and 19 CFR 351.221(c)(5)(ii).

Dated: June 1, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margins Likely to Prevail

VII. Final Results of Sunset Review

VIII. Recommendation

[FR Doc. 2022-12309 Filed 6-7-22; 8:45 am]

BILLING CODE 3510-DS-P